DEPARTMENT OF HEALTH AND HUMAN SERVICES

Administration on Aging

Funding Opportunity

Purpose of Notice: Availability of funding opportunity announcement.

Funding Opportunity Title/Program Name: Older Americans Act (OAA), Title VI, Part A: Grants for Native Americans; Part B: Grants for Native Hawaiian Programs; and Part C: Grants for the Native American Caregiver Support Program.

Announcement Type: This is the initial announcement for this funding opportunity.

Funding Opportunity Number: Program Announcement No. is HHS-2011-AoA-TitleVI-1101.

Statutory Authority: The Older Americans Act, Public Law 109-365.

Catalog of Federal Domestic Assistance (CFDA) Number: 93.047, Title VI Parts A and B and 93.054, Title VI Part C.

Dates: The deadline date for the submission of applications is November 30, 2010.

I. Funding Opportunity Description

This announcement seeks proposals for grants to provide nutritional and supportive services to Indian elders and Alaskan Natives under Part A; Native Hawaiian elders under Part B; and Family Caregiver support services under Part C of the OAA. The goal of these programs is to increase home and community-based services to older Indians, Alaskan Natives and Native Hawaiians, that respond to local needs and are consistent with evidence-based practices. A detailed description of the funding opportunity may be found at http://www.grants.gov, http://www.aoa.gov under Grant Opportunities →Funding Opportunities, or http://www.olderindians.org.

II. Award Information

1. Funding Instrument Type

Grant.

2. Anticipated Total Priority Area Funding per Budget Period

The Administration on Aging (AoA) will accept applications for funding for a three-year project period, April 1, 2011 to March 31, 2014, in FY 2011 under the OAA, Title VI, Part A: Grants for Native Americans; Part B: Grants for Native Hawaiian Programs; and Part C: Grants for the Native American Caregiver Support Program. Current annual funding levels for Title VI, Part A and Part B range from $76,160 to $186,000. Current annual funding levels for Title VI, Part C range from $14,410 to $57,680. Distribution of funds among tribal organizations and Native Hawaiian organizations is subject to the availability of appropriations to carry out Title VI. Funding is based on the number of eligible elders age 60 and older in your proposed service area. Successful applications from current grantees will receive priority consideration. Successful applications from new applicants will be funded pending the availability of funds or at the discretion of the Assistant Secretary for Aging. For those applying for Title VI, Parts A or B funding you have the option to also apply for Part C. However, to apply for Part C, you must apply for both Part A and Part C or Part B and Part C.

III. Eligibility Criteria and Other Requirements

1. Eligible Applicants

Eligibility for grant awards is limited to all current Title VI, Part A and Part B grantees; current grantees who wish to leave a consortium; and eligible federally recognized Indian tribal organizations that are not now participating in Title VI and would like to apply as a new grantee. Those tribes who were a part of a consortium receiving a Title VI grant in 1991 and applying individually will be considered a “current grantee.” Proof of being a part of a consortium that was funded in FY 1991 must be submitted as part of the application. A tribal organization or Indian tribe must meet the application requirements contained in sections 612(a), 612(b), and 612(c) of the OAA and 45 CFR 1326.19. A public or nonprofit private organization serving Native Hawaiians must meet the application requirements contained in sections 622(1), 622(2), and 625 of the OAA and 45 CFR 1328.19. Under the Native American Caregiver Support Program, a tribal or Native Hawaiian organization must meet the requirements as contained in section 631 of the OAA. These sections are described in the application kit.

2. Cost Sharing or Matching

Cost Sharing or matching does not apply to these grants.

3. D-U-N-S Number

All grant applicants must obtain a D-U-N-S number from Dun and Bradstreet. It is a nine-digit identification number, which provides unique identifiers of single business entities. The D-U-N-S number is free and easy to obtain from http://www.dnb.com/US/duns_update/ or by calling their live help line at 1-888-814-1435. Applicants are also encouraged to check their Web site for other pertinent information regarding this process.

4. Intergovernmental Review

Executive Order 12372, Intergovernmental Review of Federal Programs, is not applicable to these grant applications.

IV. Application and Submission Information

1. Address To Request Application Package

Application kits are available by writing to the U.S. Department of Health and Human Services, Administration on Aging, Office for American Indian, Alaskan Native, and Native Hawaiian Programs, Washington, DC 20001; by calling Cecelia Aldridge, telephone: (202) 357-3422; or online at http://www.grants.gov, http://www.aoa.gov under Grant Opportunities →Funding Opportunities, or http://www.olderindians.org.

2. Application Submission Requirements

An original and complete application must include all attachments and be signed by the principal official of the tribe.

Applicants are encouraged to submit applications electronically via e-mail to Grants.Office@aoa.hhs.gov with the following in the subject line of the e-mail: “FY2011-2014 Title VI Application: (insert your tribal organization name).”

If sending via overnight delivery service, applications must be submitted to the U.S. Department of Health and Human Services, Administration on Aging, Office of Grants Management, One Massachusetts Ave., NW., Room 4714, Washington, DC 20001, attn: Yi-Hsin Yan.

Faxed applications will not be accepted.

3. Submission Dates and Times

To receive consideration, applications must be received electronically by 11:59 p.m. EST on November 30, 2010, or postmarked by the overnight delivery service no later than November 30, 2010. If AoA's Grants.Office@AoA.HHS.gov e-mail site cannot reasonably be used, a hard copy application and all attachments must be provided to an overnight delivery service and documented with a receipt by November 30, 2010.

V. Screening Criteria

Each application submitted will be screened to determine whether it was received by the closing date and time. In addition, applications received by the closing date and time will be screened for completeness and conformity with the requirements outlined in Sections III and IV of this Notice and the Program Announcement. Only completed and signed applications that meet these requirements will be considered for funding.

VI. Application Review Information

Not Applicable

VII. Agency Contacts

For further information/questions regarding your application, contact M. Yvonne Jackson, Ph.D., U.S. Department of Health and Human Services, Administration on Aging, Office for American Indian, Alaskan Native, and Native Hawaiian Programs, One Massachusetts Avenue, NW., Room 5013, Washington, DC 20001; telephone (202) 357-3501; fax (202) 357-3560; e-mail Yvonne.Jackson@aoa.hhs.gov.

Dated: August 24, 2010.
Kathy Greenlee,
Assistant Secretary for Aging.

[FR Doc. 2010-21565 Filed 8-27-10; 8:45 am]

BILLING CODE 4154-01-P